PEACE CORPS

Information Collection Requests Under OMB Review

AGENCY: Peace Corps.

ACTION: Notice of public use form review request to the Office of Management and Budget (OMB Control Number 0420-0529).

SUMMARY: Pursuant to the Paperwork Reduction Act of 1981 (44 U.S.C., chapter 35), this notice announces that the Peace Corps has submitted to the Office of Management and Budget a request to approve the annual Peace Corps Day Brochure Registration Form, OMB Control Number 0420-0529. The initial Federal Register notice was published on April 26, 2001, (Volume 66, Number 81, p. 21023) for 60 days. Also available at GPO access: wais.access.gpo.gov. No comments, inquiries or responses to the notice were received. A copy of the information collection may be obtained from Lisa Ward, Office of Domestic Programs, Peace Corps, 1111 20th Street, NW., Room 2134, Washington, DC 20526. Ms. Ward may be contacted by telephone at 202-692-1422 or 800-424-8580 ext 1422. For general information about the Peace Corps, visit our web site at www.peacecorps.gov. The Peace Corps invites comments on whether the proposed collection of information is necessary for proper performance of the functions of the Peace Corps, including whether their information will have practical use; the accuracy of the agency's estimate of the burden of the proposed collections information, including the validity of the methodology and assumptions used; ways to enhance the quality, utility and the clarity of the information to be collected; and, ways to minimize the burden of the collection of information on those who respond, including through the use of automated collection techniques, when appropriate, and other forms of information technology. Comments on this form should be addressed to the attention of the Peace Corps Desk Officer, Office of Management and Budget, NEOB, Washington, DC 20503. Comments should be reviewed on or before September 13, 2001.

Information Collection Abstract

Title: Peace Corps Day Brochure Registration Form.

Need for and Use of This Information: This collection of information is necessary because the Peace Corps' Office of Domestic Program builds awareness of the continuing benefits that former Volunteers bring back to the United States after their service through its Coverdell World Wise Schools program, the Fellows/USA graduate fellowship program, Returned Volunteers Services, and through Peace Corps Day. For more than 10 years, programs and publications have aimed to harness the cross-cultural experiences of returned Peace Corps Volunteers (RPCVs) to foster better global understanding among Americans, and particularly students, throughout the United States. The information is used by the Office of Domestic Programs to send presentation and educational materials to RPCV's, which enhances the quality of the presentations. Information is also used by Public Affairs Specialists to promote Peace Corps Day regionally, broadly raising awareness for the Peace Corps and augmenting recruiting efforts.

Respondents: Returned Peace Corps Volunteers.

Respondent's Obligation To Reply: Voluntary.

Burden on the Public

a. Annual reporting burden: 6,500 hours.

b. Annual record keeping burden: 0 hours.

c. Estimated average burden per response: 3 minutes.

d. Frequency of response: One time.

e. Estimated number of likely respondents: 130,000.

f. Estimated cost to respondents: $1.02.

This notice is issued in Washington, DC on August 3, 2001.
Doug Warnecke,
Acting, Chief Information Officer and Associate Director for Management.

[FR Doc. 01-20385 Filed 8-13-01; 8:45 am]

BILLING CODE 6051-01-M